SOCIAL SECURITY ADMINISTRATION

20 CFR Part 404

RIN 0960-AG31

Administrative Review Process for Adjudicating Initial Disability Claims; Correction

AGENCY: Social Security Administration.

ACTION: Final rule; correcting amendment.

SUMMARY: This document contains a correction to the final regulations that were published in the Federal Register on March 31, 2006 (71 FR 16424). The regulations amended our administrative review process for applications for benefits that are based on whether you are disabled under title II of the Social Security Act (the Act), or applications for supplemental security income (SSI) payments that are based on whether you are disabled or blind under title XVI of the Act.

DATES: Effective on August 1, 2006.

FOR FURTHER INFORMATION CONTACT: Richard Bresnick, Social Insurance Specialist, Office of Regulations, Social Security Administration, 100 Altmeyer Building, 6401 Security Boulevard, Baltimore, MD 21235-6401, (410) 965-1758 or TTY (410) 966-5609 for information about this notice. For information on eligibility or filing for benefits, call our national toll-free number, 1-800-772-1213 or TTY 1-800-325-0778, or visit our internet site, Social Security Online, at http://www.socialsecurity.gov.

SUPPLEMENTARY INFORMATION: The final rule published on March 31, 2006 and effective on August 1, 2006 included an amendment to the first sentence of §§ 404.1526(c) and 416.926(c). However, before that rule was published, another rule published on March 1, 2006 (71 FR 10419) added a new paragraph (c) to each section and redesignated each former paragraph (c) as paragraph (d). We inadvertently failed to change the designation of paragraph (c) in § 404.1526 in the rule published on March 31, 2006. (We correctly changed § 416.926.) Thus, in the Code of Federal Regulations, this resulted in a change in § 404.1526 to the first sentence of the new paragraph (c), not paragraph (d), as intended. (The first sentence of § 416.926(d) was changed correctly.) To be sure that there is no confusion as to the intended content of either paragraph, we are printing paragraphs (c) and (d) in their entirety in this correcting amendment.

List of Subjects in 20 CFR Part 404

Administrative practice and procedure; Blind, Disability benefits; Old-Age, Survivors, and Disability Insurance; Reporting and recordkeeping requirements; Social Security.

Accordingly, 20 CFR part 404 is corrected by making the following correcting amendment:

PART 404—FEDERAL OLD-AGE, SURVIVORS AND DISABILITY INSURANCE (1950- )

Subpart P—[Amended]

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Amend § 404.1526 by revising paragraphs (c) and (d) to read as follows:

§ 404.1526 Medical Equivalence

* * * * *

(c) What evidence do we consider when we determine if your impairment(s) medically equals a listing? When we determine if your impairment medically equals a listing, we consider all evidence in your case record about your impairment(s) and its effects on you that is relevant to this finding. We do not consider your vocational factors of age, education, and work experience (see, for example, § 404.1560(c)(1)). We also consider the opinion given by one or more medical or psychological consultants designated by the Commissioner. (See § 404.1616.)

(d) Who is a designated medical or psychological consultant? A medical or psychological consultant designated by the Commissioner includes any medical or psychological consultant employed or engaged to make medical judgments by the Social Security Administration, the Railroad Retirement Board, or a State agency authorized to make disability determinations, and includes a medical or psychological expert (as defined in § 405.5 of this chapter) in claims adjudicated under the procedures in part 405 of this chapter. A medical consultant must be an acceptable medical source identified in § 404.1513(a)(1) or (a)(3) through (a)(5). A psychological consultant used in cases where there is evidence of a mental impairment must be a qualified psychologist. (See § 404.1616 for limitations on what medical consultants who are not physicians can evaluate and the qualifications we consider necessary for a psychologist to be a consultant.)

* * * * *

Gregory Zwitch,
Social Security Regulations Officer.

[FR Doc. E6-16074 Filed 9-28-06; 8:45 am]

BILLING CODE 4191-02-P